DEPARTMENT OF HEALTH AND HUMAN SERVICES

National Institutes of Health

National Cancer Institute; Amended Notice of Meeting

Notice is hereby given of a change in the meeting of the National Cancer Institute Clinical Trials and Translational Research Advisory Committee, November 4, 2015, 8:30 a.m. to November 4, 2015, 4:00 p.m., National Institutes of Health, Building 31, 31 Center Drive, C-Wing, 6th Floor, 10, Bethesda, MD 20892 which was published in the Federal Register on August 5, 2015, 80 FR 46589.

The meeting notice is amended to change the end time from 4:00 p.m. to 12:30 p.m. The meeting is open to the public.

Dated: October 13, 2015.
Melanie J. Gray,
Program Analyst, Office of Federal Advisory Committee Policy.

[FR Doc. 2015-26411 Filed 10-16-15; 8:45 am]

BILLING CODE 4140-01-P